DEPARTMENT OF JUSTICE

Notice of Proposed Partial Consent Decree Under the Comprehensive Environmental Response, Compensation, and Liability Act

Notice is hereby given that on July 9, 2012, the United States, on behalf of the U.S. Environmental Protection Agency (“EPA”), lodged a proposed Partial Consent Decree under the Comprehensive Environmental Response, Compensation, and Liability Act of 1980, as amended (“CERCLA”), 42 U.S.C. 9601, et seq., in United States and State of California v. Montrose Chemical Corp. of California, et al., Civil No. CV 90 3122-R (C.D. Cal.), relating to the Dual Site Groundwater Operable Unit of the Montrose and Del Amo Superfund Sites (“Dual Site”). The Dual Site is a comingled groundwater plume, primarily composed of chlorobenzene emanating from the Montrose Chemical Corp. of California former plant property, 20201 Normandie Avenue, Los Angeles, California (used for DDT manufacturing from 1947 to 1982), and several smaller plumes and pools of benzene from the neighboring Del Amo facility (used for synthetic rubber manufacturing from 1942 to 1975), as well as certain chlorinated solvents, including trichloroethylene, associated with historic industrial operations in the area.

Under the proposed Partial Consent Decree, the Settling Defendants—Montrose Chemical Corp. of California, Bayer CropScience Inc., News Publishing Australia Limited, and Stauffer Management Company LLC—will perform a discrete component of the environmental remedy for the Dual Site selected by EPA in a 1999 record of decision (“ROD”), namely financing and performing construction of the primary groundwater treatment system for the Dual Site. Settling Defendants will also pay oversight costs for that work incurred by EPA and the California Department of Toxic Substances Control (“DTSC”). Operation and maintenance of the primary groundwater treatment system, once built, implementation of other remedial action elements in the ROD, and payment of EPA's and DTSC's other response costs are not addressed or resolved by this Partial Consent Decree, but instead will be pursued separately by EPA and DTSC. The United States and DTSC provide the Settling Defendants with covenants not to sue in the Partial Consent Decree limited to the specific work required by the Decree and the associated oversight costs, with all other matters relating to the 1999 ROD for the Dual Site reserved for separate negotiations or proceedings.

For thirty (30) days following the publication of this notice, the Department of Justice will receive comments relating to the Consent Decree. Comments should be addressed to the Assistant Attorney General, Environment and Natural Resources Division, and either emailed to pubcomment-ees.enrd@usdoj.gov or mailed to P.O. Box 7611, U.S. Department of Justice, Washington, DC 20044-7611. The comments should refer to United States and State of California v. Montrose Chemical Corp. of California, et al., Civil No. CV 90 3122-R (C.D. Cal.), D.J. Ref. 90-11-3-511/3.

During the public comment period, the Consent Decree may be examined at the U.S. Environmental Protection Agency, Region 9, Office of Regional Counsel, 75 Hawthorne Street, San Francisco, California 94105. The Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or emailing a request to “Consent Decree Copy” (EESCDCopy.ENRD@usdoj.gov), fax no. (202) 514-0097, phone confirmation number (202) 514-5271. In requesting a copy from the Consent Decree Library, please enclose a check in the amount of $92.00 (.25 cents per page reproduction cost) payable to the U.S. Treasury, or if by email or fax, forward a check in that amount to the Consent Decree Library at the stated address.

Robert E. Maher, Jr.,
Assistant Section Chief, Environmental Enforcement Section, Environment and Natural Resources Division.

[FR Doc. 2012-17201 Filed 7-13-12; 8:45 am]

BILLING CODE 4410-15-P